DEPARTMENT OF LABOR

Employment and Training Administration

[TA-W-65,124]

Stanley Works; New Britain, CT; Notice of Termination of Investigation

Pursuant to Section 221 of the Trade Act of 1974, as amended, an investigation was initiated on February 4, 2009 in response to a worker petition filed by the Connecticut Rapid Response Coordinator on behalf of workers at Stanley Works, New Britain, Connecticut.

The petitioner has requested that the petition be withdrawn. Consequently, the investigation has been terminated.

Signed at Washington, DC, this 18th day of March 2009.
Richard Church,
Certifying Officer, Division of Trade Adjustment Assistance.

[FR Doc. E9-7137 Filed 3-30-09; 8:45 am]

BILLING CODE 4510-FN-P